DEPARTMENT OF THE INTERIOR

Fish and Wildlife Service

[FWS-R3-NWRS-2023-N015; FF09R50000-22X-FVRS84510900000; OMB Control Number 1018-0174]

Agency Information Collection Activities; Submission to the Office of Management and Budget for Review and Approval; U.S. Fish and Wildlife Service Preliminary Land Acquisition Process

AGENCY: Fish and Wildlife Service, Interior.

ACTION: Notice of information collection; request for comment.

SUMMARY: In accordance with the Paperwork Reduction Act of 1995, we, the U.S. Fish and Wildlife Service (Service), are proposing to renew an information collection without change.

DATES: Interested persons are invited to submit comments on or before April 12, 2023.

ADDRESSES: Written comments and recommendations for the proposed information collection should be sent within 30 days of publication of this notice to https://www.reginfo.gov/public/do/PRAMain. Find this particular information collection by selecting “Currently under Review—Open for Public Comments” or by using the search function. Please provide a copy of your comments to the Service Information Collection Clearance Officer, U.S. Fish and Wildlife Service, MS: PRB (JAO/3W), 5275 Leesburg Pike, Falls Church, VA 22041-3803 (mail); or by email to Info_Coll@fws.gov. Please reference “1018-0174” in the subject line of your comments.

FOR FURTHER INFORMATION CONTACT: Madonna L. Baucum, Service Information Collection Clearance Officer, by email at Info_Coll@fws.gov, or by telephone at (703) 358-2503. You may review the ICR online at http://www.reginfo.gov. Follow the instructions to review Department of the Interior collections under review by OMB. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the Paperwork Reduction Act (PRA, 44 U.S.C. 3501 et seq.) and its implementing regulations at 5 CFR 1320.8(d)(1), all information collections require approval under the PRA. We may not conduct or sponsor and you are not required to respond to a collection of information unless it displays a currently valid OMB control number.

On July 19, 2022, we published in the Federal Register (87 FR 43047) a notice of our intent to request that OMB approve this information collection. In that notice, we solicited comments for 60 days, ending on September 19, 2022. In an effort to increase public awareness of, and participation in, our public commenting processes associated with information collection requests, the Service also published the Federal Register notice on Regulations.gov (Docket FWS-R3-NWRS-2022-0097) to provide the public with an additional method to submit comments (in addition to the typical Info_Coll@fws.gov email and U.S. mail submission methods). We did not receive any comments in response to that notice.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: Information collected by the U.S. Fish and Wildlife Service (in support of the land acquisition program) is required under applicable statutes, Department of Justice regulations, Departmental and Service policies, and best business practices. In addition, the land acquisition program facilitates Secretarial Orders 3356 and 3366 by tracking land acquisitions that have potential to support public hunting, fishing, and other forms of outdoor recreation, and access related thereto. Authorities for the collection of realty-related information include:

• U.S. Department of Justice; Regulations of the Attorney General Governing the Review and Approval of Title for Federal Land Acquisitions (2016);

• Uniform Relocation Assistance and Real Property Acquisition Policies Act of 1970, as amended (42 U.S.C. 4601 et seq.);

• National Wildlife Refuge Administration Act of 1966 (16 U.S.C. 668dd et seq.);

• Migratory Bird Hunting and Conservation Stamp Act (16 U.S.C. 718);

• Migratory Bird Conservation Act, as amended (16 U.S.C. 715-715r);

• Land and Water Conservation Fund Act of 1965 (54 U.S.C. 200301 et seq.);

• Endangered Species Act of 1973, as amended (16 U.S.C. 1531 et seq.);

• Emergency Wetlands Resources Act of 1986 (16 U.S.C. 3901); and

• Fish and Wildlife Act of 1956, as amended (16 U.S.C. 742a).

The Service tracks information collected from landowners as part of the preliminary land acquisition process. Information collected by the Service as part of the preliminary land acquisition process may include the following:

• Initial Requests—Initial request to consider property, to include such items as:

○ Identifying information for the legal property owner(s), such as:

—Name of primary property owner, along with spouse and/or co-owner(s) whose names appear on the current deed to the property under review;

—Marital status;

—Other names used; and

—Contact information, to include telephone numbers, personal email addresses, and mailing/home addresses.

○ Financial information, to include Social Security Numbers (necessary for final payment transaction).

○ Property description, to include such information as:

—Property name,

—Location,

—Legal description, and

—Introductory information.

• Permission to Inspect and Appraise (FWS Form 3-2471)—Collects information about the property owner and location, and grants permission to enter and inspect the property for real estate acquisition purposes. Inspection may include, but is not limited to:

○ Appraisal valuations;

○ Boundary survey;

○ Hazardous materials examination (contaminant survey); and

○ Physical examination of any structures on the property.

We do not use FWS Form 3-2471 in projects that are under Memoranda of Understanding (MOU), Memoranda of Agreement (MOA), Cooperative Agreements, certain donation partnerships, and other special cases.

• Waiver of Appraisal Requirement (FWS Form 3-2461)—Per 49 CFR 24.102(c)(2), a willing-seller landowner may release the Service from the obligation of obtaining an appraisal for (1) land donations and (2) certain land acquisitions where the anticipated value is low and the valuation problem is uncomplicated.

Unless delivered in person, both the Permission to Inspect and Appraise form (FWS Form 3-2471) and the Waiver of Appraisal Requirement form (FWS Form 3-2461) will contain a cover letter referred to as the access permission letter. The access permission letter does not request any information, but is used to explain the form or waiver process.

Information is collected and protected in accordance with the Privacy Act (5 U.S.C. 552a) and the Freedom of Information Act (5 U.S.C. 552). We will maintain the information in a secure system of records (Real Property Records, FWS-11; 71 FR 68635 (November 27, 2006); modification published 73 FR 31877 (June 4, 2008)). We gather Social Security numbers and banking information to assist with electronic payments and preparation of the required Internal Revenue Service 1099 Forms.

Title of Collection: U.S. Fish and Wildlife Service Preliminary Land Acquisition Process.

OMB Control Number: 1018-0174.

Form Numbers: 3-2461 and 3-2471.

Type of Review: Extension without change of a currently approved collection.

Respondents/Affected Public: Individuals/households, private sector, and State/local/Tribal governments participating in realty transactions with the Service.

Respondent's Obligation: Required to obtain or retain a benefit.

Frequency of Collection: On occasion.

Total Estimated Annual Nonhour Burden Cost: None.

Requirement | Average number of annual respondents | Average number of responses each | Average number of annual responses | Average completion time per response | Estimated annual burden hours *
Initial Requests
Individuals | 151 | 1 | 151 | .5 | 76
Private Sector | 208 | 1 | 208 | 1 | 208
Government | 16 | 1 | 16 | 2 | 32
Permission to Inspect and Appraise
Individuals | 53 | 1 | 53 | .25 | 13
Private Sector | 96 | 1 | 96 | .25 | 24
Government | 7 | 1 | 7 | .25 | 2
Waiver of Appraisal Requirement
Individuals | 9 | 1 | 9 | .25 | 2
Private Sector | 17 | 1 | 17 | .25 | 4
Government | 5 | 1 | 5 | .25 | 1
Totals: | 562 |  | 562 |  | 362
* Rounded.

An agency may not conduct or sponsor and a person is not required to respond to a collection of information unless it displays a currently valid OMB control number.

The authority for this action is the Paperwork Reduction Act of 1995 (44 U.S.C. 3501 et seq.).

Madonna Baucum,
Information Collection Clearance Officer, U.S. Fish and Wildlife Service.

[FR Doc. 2023-05108 Filed 3-10-23; 8:45 am]

BILLING CODE 4333-15-P